DEPARTMENT OF THE INTERIOR

Office of Natural Resources Revenue

[Docket No. ONRR-2011-0001; DS63644000 DRT000000.CH7000 223D1113RT; OMB Control Number 1012-0010]

Agency Information Collection Activities: Solid Minerals and Geothermal Collections

AGENCY: Office of Natural Resources Revenue (“ONRR”), Interior.

ACTION: Notice of information collection; request for comment.

SUMMARY: In accordance with the Paperwork Reduction Act of 1995 (“PRA”), ONRR is proposing to renew an information collection. Through this Information Collection Request (“ICR”), ONRR seeks renewed authority to collect information necessary to report production, sales, and royalties owed related to coal, other solid minerals, and geothermal resources produced from Federal and Indian lands. ONRR currently uses forms ONRR-4292 (Coal Washing Allowance Report); ONRR-4293 (Coal Transportation Allowance Report); ONRR-4430 (Solid Minerals Production and Royalty Report); and ONRR-4440 (Solid Minerals Sales Summary) as part of these information collection requirements.

DATES: You must submit your written comments on or before October 17, 2022.

ADDRESSES: All comment submissions must (1) reference “OMB Control Number 1012-0010” in the subject line; (2) be sent to ONRR before the close of the comment period listed under DATES; and (3) be sent through using the following method:

• Electronically via the Federal eRulemaking Portal: Please visit https://www.regulations.gov. In the Search Box, enter the Docket ID Number for this ICR renewal (“ONRR-2011-0001”) and click “search” to view the publications associated with the docket folder. Locate the document with an open comment period and click the “Comment Now!” button. Follow the prompts to submit your comment prior to the close of the comment period.

Docket: To access the docket folder to view the ICR Federal Register publications, go to https://www.regulations.gov and search “ONRR-2011-0001” to view renewal notices recently published in the Federal Register, publications associated with prior renewals, and applicable public comments received for this ICR. ONRR will make the comments submitted in response to this notice available for public viewing at https://www.regulations.gov.

OMB ICR Data: OMB also maintains information on ICR renewals and approvals. You may access this information at https://www.reginfo.gov/public/do/PRASearch. Please use the following instructions: Under the “OMB Control Number” heading enter “1012-0010” and click the “Search” button located at the bottom of the page. To view the ICR renewal or OMB approval status, click on the latest entry (based on the most recent date). On the “View ICR—OIRA Conclusion” page, check the box next to “All” to display all available ICR information provided by OMB.

FOR FURTHER INFORMATION CONTACT: To request additional information about this ICR, please contact Michael Anspach, Solid Minerals, ONRR, by email at Michael.Anspach@onrr.gov or by telephone at (303) 231-3618. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Pursuant to the PRA, 44 U.S.C. 3501, et seq., and 5 CFR 1320.5, all information collections, as defined in 5 CFR 1320.3, require approval by OMB. ONRR may not conduct or sponsor, and you are not required to respond to, a collection of information unless it displays a currently valid OMB control number.

As part of ONRR's continuing effort to reduce paperwork and respondent burdens, ONRR is inviting the public and other Federal agencies to comment on new, proposed, revised, and continuing collections of information in accordance with the PRA and 5 CFR 1320.8(d)(1). This helps ONRR to assess the impact of its information collection requirements and minimize the public's reporting burden. It also helps the public understand ONRR's information collection requirements and provide the requested data in the desired format.

ONRR is especially interested in public comments addressing the following:

(1) Whether the collection of information is necessary for the proper performance of the functions of the agency, including whether the information will have practical utility;

(2) The accuracy of ONRR's estimate of the burden for the collection of information, including the validity of the methodology and assumptions used;

(3) Ways to enhance the quality, utility, and clarity of the information to be collected; and

(4) How might the agency minimize the burden of the collection of information on respondents, including through the use of appropriate automated, electronic, mechanical, or other technological collection techniques or other forms of information technology, e.g., permitting electronic submission of response.

ONRR published a 60-day Federal Register notice on April 13, 2022 (87 FR 21921) and received no comments. However, ONRR solicited comments and received six comments in response to this information collection request. Five of those comments agreed with the content of this ICR. One commenter disagreed with the amount of time and processes that ONRR uses to calculate the burden hours. ONRR acknowledged and provided responses to all commenters accordingly.

Comments that you submit in response to this 30-day notice are a matter of public record. ONRR will include or summarize each comment in its request to OMB to approve this ICR. Before including your address, phone number, email address, or other personal identifying information in your comment, you should be aware that your entire comment—including your personal identifying information—may be made publicly available at any time. While you can ask ONRR in your comment to withhold your personal identifying information from public review, ONRR cannot guarantee that it will be able to do so.

Abstract: (a) General Information: The Secretary of the U.S. Department of the Interior (“Secretary”) is responsible for mineral resource development on Federal and Indian lands and the Outer Continental Shelf (OCS). The Secretary is also responsible for collecting royalty information from lessees who produce minerals from Federal and Indian lands and the OCS. Under various laws, the Secretary's responsibility is to (1) manage mineral resources production from Federal and Indian lands and the OCS; (2) collect the royalties and other mineral revenues due; and (3) distribute the funds collected.

ONRR uses the information collected in this ICR to ensure that a lessee properly pays royalty and other revenues due on coal, other solid minerals, and geothermal resources produced from Federal and Indian lands. A lessee submits some of the information collected in this ICR to claim a coal washing or a transportation allowance. ONRR shares the data with the Bureau of Land Management, Bureau of Indian Affairs, and Tribal and State governments for their land and lease management responsibilities. The requirement to report accurately and timely is mandatory. Please refer to the chart for all reporting requirements and associated burden hours.

(b) Information Collections: This ICR covers the paperwork requirements under 30 CFR parts:

• 1202, subpart H, which pertains to geothermal resources royalties.

• 1206, subparts F, H, and J, which pertain to product valuation of Federal coal, geothermal resources, and Indian coal.

• 1210, subparts E and H, which pertain to forms and reports for solid minerals and geothermal resources leases.

• 1212, subparts E and H, which pertain to records and file maintenance for solid minerals and geothermal resources leases.

• 1217, subparts E, F, and G, which pertain to audits and inspections of coal, other solid minerals, and geothermal resources leases.

• 1218, subparts E and F, which pertain to the collection of royalties, rentals, bonuses, and other monies due for solid minerals and geothermal resources.

All data reported is subject to subsequent audit and adjustment. A lessee uses the following forms for coal and other solid minerals production, sales, royalty reporting, and allowances.

• Form ONRR-4292, Coal Washing Allowance Report: A lessee of any Federal or Indian lease producing coal must submit this form to claim a coal washing allowance.

• Form ONRR-4293, Coal Transportation Allowance: A lessee of any Federal or Indian lease producing coal must submit this form to claim a coal transportation allowance.

• Form ONRR-4430, Solid Minerals Production and Royalty Report: A Federal or Indian lessee must submit this form to report production, sales, royalties, certain rents, and other lease-related transactions on coal and other solid mineral leases.

• Form ONRR-4440, Solid Mineral Sales: A lessee must file this form for all coal and other solid minerals produced from Federal and Indian leases and any remote storage site from which the lessee sells Federal or Indian coal or other solid minerals.

Based on the average burden hours and responses for the last three years, there is a decrease of 1,081 in estimated annual responses and a decrease of 504 in estimated annual burden hours.

Title of Collection: Solid Minerals and Geothermal Collections—30 CFR parts 1202, 1206, 1210, 1212, 1217, and 1218.

OMB Control Number: 1012-0010.

Form Numbers: ONRR-4292, ONRR-4293, ONRR-4430, and ONRR-4440.

Type of Review: Extension of a currently approved collection.

Respondents/Affected Public: Businesses.

Total Estimated Number of Annual Respondents: 100 reporters.

Total Estimated Number of Annual Responses: 8,341.

Total Estimated Number of Annual Burden Hours: 3,367 hours.

Estimated Completion Time per Response: 24.31 minutes.

Respondent's Obligation: The records maintenance and the filing of forms ONRR-4430 and ONRR-4440 are mandatory. The filing of forms ONRR-4292 and ONRR-4293, and the submission of solid minerals and geothermal resources information that do not have an ONRR form, are required to obtain or retain a benefit.

Frequency of Collection: Monthly, annually, and on occasion.

Estimated Annual Non-hour Cost Burden: ONRR has identified no “non-hour” cost burden associated with the collection of information.

An agency may not conduct or sponsor and a person is not required to respond to a collection of information unless it displays a currently valid OMB control number.

The authority for this action is the PRA (44 U.S.C. 3501, et seq.)

Howard M. Cantor,
Acting Director, Office of Natural Resources Revenue.

[FR Doc. 2022-20013 Filed 9-15-22; 8:45 am]

BILLING CODE 4335-30-P